DEPARTMENT OF TRANSPORTATION

Federal Aviation Administration

14 CFR Part 39

[Docket No. FAA-2018-0492; Product Identifier 2018-NM-083-AD; Amendment 39-19303; AD 2018-11-15]

RIN 2120-AA64

Airworthiness Directives; Airbus Airplanes

AGENCY: Federal Aviation Administration (FAA), DOT.

ACTION: Final rule; request for comments.

SUMMARY: We are adopting a new airworthiness directive (AD) for all Airbus Model A320-271N airplanes, and Model A321-271N, -271NX, -272N and -272NX airplanes. This AD requires replacing certain full authority digital engine control (FADEC) electronic engine controllers (EECs); or installing software standard FCS4.4 and re-identifying the FADEC EECs. This AD was prompted by a report that, when operated at low speed and high engine thrust, an engine did not restart following a fuel interruption shorter than five seconds. We are issuing this AD to address the unsafe condition on these products.

DATES: This AD becomes effective May 30, 2018.

The Director of the Federal Register approved the incorporation by reference of a certain publication listed in this AD as of May 30, 2018.

We must receive comments on this AD by July 16, 2018.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC, between 9 a.m. and 5 p.m., Monday through Friday, except Federal holidays.

For service information identified in this final rule, contact Airbus, Airworthiness Office—EIAS, 1 Rond Point Maurice Bellonte, 31707 Blagnac Cedex, France; telephone +33 5 61 93 36 96; fax +33 5 61 93 44 51; email account.airworth-eas@airbus.com; internet http://www.airbus.com. You may view this referenced service information at the FAA, Transport Standards Branch, 2200 South 216th St., Des Moines, WA. For information on the availability of this material at the FAA, call 206-231-3195. It is also available on the internet at http://www.regulations.gov by searching for and locating Docket No. FAA-2018-0492.

Examining the AD Docket

You may examine the AD docket on the internet at http://www.regulations.gov by searching for and locating Docket No. FAA-2018-0492; or in person at the Docket Operations office between 9 a.m. and 5 p.m., Monday through Friday, except Federal holidays. The AD docket contains this AD, the regulatory evaluation, any comments received, and other information. The street address for the Docket Operations office (telephone 800-647-5527) is in the ADDRESSES section. Comments will be available in the AD docket shortly after receipt.

FOR FURTHER INFORMATION CONTACT: Sanjay Ralhan, Aerospace Engineer, International Section, Transport Standards Branch, FAA, 2200 South 216th St., Des Moines, WA 98198; telephone and fax 206-231-3323.

SUPPLEMENTARY INFORMATION:

Discussion

The European Aviation Safety Agency (EASA), which is the Technical Agent for the Member States of the European Union, has issued EASA AD 2018-0110, dated May 18, 2018 (referred to after this as the Mandatory Continuing Airworthiness Information, or “the MCAI”), to correct an unsafe condition for all Airbus Model A320-271N airplanes, and Model A321-271N, -271NX, -272N, and -272NX airplanes. The MCAI states:

During certification test flights of an A320-271N aeroplane, it has been identified that, when operated at low speed and high engine thrust, the tested engine did not re-start in case of a fuel interruption shorter than 5 seconds. Investigation revealed that this was due to the software logic implemented in the FADEC EEC of affected A320 family models.

This condition, if not corrected, could prevent restart of a shut down engine while operating in high power conditions [after a single or dual in-flight engine shutdown].

To address this potentially unsafe condition, software (SW) standard FCS4.4 for the FADEC EEC has been developed, and Airbus published the SB [Airbus Service Bulletin A320-73-1128, Revision 01, dated May 17, 2018] providing modification instructions.

For the reasons described above, this [EASA] AD requires modification of aeroplanes by [replacing the affected FADEC EECs or by] installation of this FADEC EEC SW [software] standard [and re-identification of the affected FADEC EECs].

You may examine the MCAI on the internet at http://www.regulations.gov by searching for and locating Docket No. FAA-2018-0492.

Related Service Information Under 1 CFR Part 51

Airbus has issued Service Bulletin A320-73-1128, Revision 01, dated May 17, 2018. This service information describes procedures for replacing affected FADEC EECs and for installing software standard FCS4.4 and re-identifying affected FADEC EECs. This service information is reasonably available because the interested parties have access to it through their normal course of business or by the means identified in the ADDRESSES section.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of these same type designs.

FAA's Determination of the Effective Date

An unsafe condition exists that requires the immediate adoption of this AD. The FAA has found that the risk to the flying public justifies waiving notice and comment prior to adoption of this rule because a FADEC EEC software defect might prevent restart of an engine after a single or dual in-flight engine shutdown under certain conditions. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2018-0492; Product Identifier 2018-NM-083-AD” at the beginning of your comments. We specifically invite comments on the overall regulatory, economic, environmental, and energy aspects of this AD. We will consider all comments received by the closing date and may amend this AD based on those comments.

We will post all comments we receive, without change, to http://www.regulations.gov, including any personal information you provide. We will also post a report summarizing each substantive verbal contact we receive about this AD.

Costs of Compliance

We estimate that this AD affects 16 airplanes of U.S. registry. We estimate the following costs to comply with this AD:

Estimated Costs for Required Actions
Labor cost | Parts cost | Cost per product | Cost on U.S. operators
Up to 7 work-hours × $85 per hour = Up to $595 | (1) | Up to $595 | Up to $9,520.
1 We have received no definitive data that would enable us to provide cost estimates for parts needed to comply with the actions specified in this AD.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2018-11-15 Airbus: Amendment 39-19303; Docket No. FAA-2018-0492; Product Identifier 2018-NM-083-AD.

(a) Effective Date

This AD becomes effective May 30, 2018.

(b) Affected ADs

None.

(c) Applicability

This AD applies to the Airbus airplanes identified in paragraphs (c)(1) and (c)(2) of this AD, certificated in any category, all manufacturer serial numbers (MSN).

(1) Model A320-271N airplanes.

(2) Model A321-271N, -271NX, -272N and -272NX airplanes.

(d) Subject

Air Transport Association (ATA) of America Code 72, Turbine/turboprop engine.

(e) Reason

This AD was prompted by a report that, when operated at low speed and high engine thrust, an engine did not restart following a fuel interruption shorter than five seconds. We are issuing this AD to address engines that might not restart while operating in high power conditions after a single or dual in-flight engine shutdown.

(f) Compliance

Comply with this AD within the compliance times specified, unless already done.

(g) Definitions

(1) For the purposes of this AD, an affected full authority digital engine control (FADEC) electronic engine controller (EEC) is one with a part number listed in table 1 to paragraph (g)(1) of this AD.

Table 1 to Paragraph (g)(1) of This AD—Affected FADEC EEC Part Numbers
Affected FADEC EEC part No.
5315126
5315126SK02
5323434
5323745
5323746
5324836
5324836-001
5324836-002
5324837
5325185
5325971
5325975

(2) For the purposes of this AD, Group 1 airplanes are defined as those that have an affected FADEC EEC installed.

(3) For the purposes of this AD, Group 2 airplanes are defined as those that do not have an affected FADEC EEC installed.

(h) Modification

For Group 1 airplanes: Within 30 days after the effective date of this AD, modify the airplane by replacing affected FADEC EECs installed on both engines with FADEC EEC part number 5327582 (software standard FCS4.4), or by installing software standard FCS4.4 and re-identifying the affected FADEC EEC, in accordance with the Accomplishment Instructions of Airbus Service Bulletin A320-73-1128, Revision 01, dated May 17, 2018.

(i) Parts Installation Limitation

As of 30 days after the effective date of this AD, do not install an affected FADEC EEC on any airplane.

(j) Later-Approved Parts

Installation on an airplane of a FADEC EEC or software standard having a part number approved after the effective date of this AD is acceptable for compliance with the requirements of paragraph (h) of this AD, provided the conditions in paragraphs (j)(1) and (j)(2) of this AD are met.

(1) The FADEC EEC or software standard part number must be approved by the Manager, International Section, Transport Standards Branch, FAA; or the European Aviation Safety Agency (EASA); or Airbus's EASA Design Organization Approval (DOA). If approved by the DOA, the approval must include the DOA-authorized signature.

(2) The installation of the FADEC EEC or software standard must be accomplished in accordance with a method approved by the Manager, International Section, Transport Standards Branch, FAA; or EASA; or Airbus's EASA DOA. If approved by the DOA, the approval must include the DOA-authorized signature.

(k) Clarification of Affected Airplanes

An airplane on which Airbus modification 163473 has been embodied in production is not affected by the requirements of paragraph (h) of this AD, provided it can be conclusively determined that no affected FADEC EEC is installed on that airplane.

(l) Credit for Previous Actions

This paragraph provides credit for the actions required by paragraph (h) of this AD, if those actions were performed before the effective date of this AD using Airbus Service Bulletin A320-73-1128, dated May 15, 2018.

(m) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (n)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Section, Transport Standards Branch, FAA; or EASA; or Airbus's EASA DOA. If approved by the DOA, the approval must include the DOA-authorized signature.

(3) Required for Compliance (RC): If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(n) Related Information

(1) Refer to Mandatory Continuing Airworthiness Information (MCAI) EASA Airworthiness Directive 2018-0110, dated May 18, 2018, for related information. You may examine the MCAI on the internet at http://www.regulations.gov by searching for and locating Docket No. FAA-2018-0492.

(2) For more information about this AD, contact Sanjay Ralhan, Aerospace Engineer, International Section, Transport Standards Branch, FAA, 2200 South 216th St., Des Moines, WA 98198; telephone and fax 206-231-3323.

(3) Service information identified in this AD that is not incorporated by reference is available at the addresses specified in paragraphs (o)(3) and (o)(4) of this AD.

(o) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A320-73-1128, Revision 01, dated May 17, 2018.

(ii) Reserved.

(3) For service information identified in this AD, contact Airbus, Airworthiness Office—EIAS, 1 Rond Point Maurice Bellonte, 31707 Blagnac Cedex, France; telephone +33 5 61 93 36 96; fax +33 5 61 93 44 51; email account.airworth-eas@airbus.com; internet http://www.airbus.com.

(4) You may view this service information at the FAA, Transport Standards Branch, 2200 South 216th St., Des Moines, WA. For information on the availability of this material at the FAA, call 206-231-3195.

(5) You may view this service information that is incorporated by reference at the National Archives and Records Administration (NARA). For information on the availability of this material at NARA, call 202-741-6030, or go to: http://www.archives.gov/federal-register/cfr/ibr-locations.html.

Issued in Des Moines, Washington, on May 23, 2018.
James Cashdollar,
Acting Director, System Oversight Division, Aircraft Certification Service.

[FR Doc. 2018-11659 Filed 5-29-18; 8:45 am]

BILLING CODE 4910-13-P